Proclamation 7299 of April 29, 2000

Asian/Pacific American Heritage Month, 2000

By the President of the United States of America

A Proclamation

Over the last two centuries, Asian Americans and Pacific Islanders have contributed immeasurably to the richness of our dynamic, multicultural society. Whether recent immigrants or descendants of families who have been here for generations, Asian Americans and Pacific Islanders embody many of our Nation's core values, including devotion to family, commitment to hard work, and pride in their heritage.

The people of this diverse and rapidly growing community have contributed to every aspect of our national life—from engineering and computer science to government, the arts, and sports. For example, Vinod Dahm helped to revolutionize computer technology through the invention of the pentium chip. Governors Benjamin Cayetano of Hawaii and Gary Locke of Washington have devoted their lives to public service. The talents of novelist Amy Tan have delighted readers across our Nation, while architect and sculptor Maya Lin's stirring memorials to the Vietnam War and the Civil Rights Movement have uplifted and inspired all who have experienced them. And diver Greg Louganis and football star Junior Seau have thrilled sports fans everywhere with their skill and athleticism.

While many Asian Americans and Pacific Islanders today are thriving, others are still struggling to overcome obstacles. Because of oppression in their countries of origin, some new immigrants have arrived without having completed their education; once here, some have encountered language and cultural barriers and discrimination. Pacific Islanders, too, must overcome barriers to opportunity caused by their geographic isolation and the consequences of Western influences on their unique culture. For these and other reasons, too many Asian Americans and Pacific Islanders face low-paying jobs, inadequate health care, and lack of educational opportunity.

To assist this community in meeting these challenges, last June I signed an Executive order establishing the White House Initiative on Asian Americans and Pacific Islanders. The Initiative's goal is to improve the quality of life for Asian Americans and Pacific Islanders by increasing their participation in Federal programs—including health, human services, education, housing, labor, transportation, economic, and community development programs—which may not have served them in the past.

My Administration remains dedicated to building an America that celebrates and draws strength from its diversity. Let us use this month to reflect on the many gifts Asian Americans and Pacific Islanders have brought to our nation and embrace the contributions that Americans of all backgrounds make to our increasingly multicultural society.

To honor the accomplishments of Asian Americans and Pacific Islanders and to recognize their many contributions to our Nation, the Congress, by Public Law 102-450, has designated the month of May as “Asian/Pacific American Heritage Month.”

NOW, THEREFORE, I, WILLIAM J. CLINTON, President of the United States of America, do hereby proclaim May 2000 as Asian/Pacific American Heritage Month. I call upon the people of the United States to observe this occasion with appropriate programs, ceremonies, and activities.

IN WITNESS WHEREOF, I have hereunto set my hand this twenty-ninth day of April, in the year of our Lord two thousand, and of the Independence of the United States of America the two hundred and twenty-fourth.

wj

[FR Doc. 00-11141

Filed 5-2-00; 8:45 am]

Billing code 3195-01-P